NATIONAL SCIENCE FOUNDATION

Sunshine Act Meetings

The National Science Board's (NSB) Committee on External Engagement hereby gives notice of the scheduling of a teleconference for the transaction of National Science Board business pursuant to the National Science Foundation Act and the Government in the Sunshine Act.

TIME AND DATE: Thursday, April 28, 2022, from 2:00-3:00 p.m. EST.

PLACE: This meeting will be held by teleconference through the National Science Foundation.

STATUS: Open.

MATTERS TO BE CONSIDERED: The agenda of the teleconference is: Approve February 2022 minutes; Discuss NSB survey feedback and draft recommendations to update NSB honorary awards; Recent and upcoming engagement; and Discuss the next iteration of the Committee, what should it aim to do?

CONTACT PERSON FOR MORE INFORMATION: Point of contact for this meeting is: Nadine Lymn, nlymn@nsf.gov, 703/292-7000. Members of the public can observe this meeting through a YouTube livestream. Meeting information including a YouTube link is available from the NSB website at https://www.nsf.gov/nsb/meetings/index.jsp#up.

Chris Blair,
Executive Assistant to the National Science Board Office.

[FR Doc. 2022-09037 Filed 4-25-22; 8:45 am]

BILLING CODE 7555-01-P